DEPARTMENT OF THE INTERIOR

Bureau of Reclamation

[RR02910000, XXXR0680R1, RR.17529652.2900012]

Notice of Intent To Prepare a Supplemental Environmental Impact Statement for the B.F. Sisk Dam Raise and Reservoir Expansion Project, Merced County, California

AGENCY: Bureau of Reclamation, Interior.

ACTION: Notice of intent; request for comments.

SUMMARY: The Bureau of Reclamation (Reclamation) intends to prepare a Supplemental Environmental Impact Statement (SEIS) for the B.F. Sisk Dam Raise and Reservoir Expansion Project. Reclamation is requesting public and agency comment to identify significant issues or other alternatives to be addressed in the SEIS.

DATES: Submit written comments on the scope of the SEIS on or before June 15, 2020.

ADDRESSES: Provide written scoping comments, requests to be added to the mailing list, or requests for other special assistance needs to Ms. Casey Arthur, Project Manager, Bureau of Reclamation, Willows Construction Office, 1140 W. Wood Street Willows, CA, 95988.

FOR FURTHER INFORMATION CONTACT: Ms. Casey Arthur, Project Manager, Bureau of Reclamation, Willows Construction Office, 1140 W. Wood Street Willows, CA, 95988.; telephone (530) 892-6202; facsimile (530) 934-7679; email carthur@usbr.gov. Persons who use a telecommunications device for the deaf may call the Federal Relay Service (FedRelay) at 1-800-877-8339 TTY/ASCII to contact the above individual during normal business hours or to leave a message or question after hours. You will receive a reply during normal business hours.

SUPPLEMENTARY INFORMATION: Reclamation is issuing this notice pursuant to the National Environmental Policy Act of 1969, as amended (NEPA), 42 U.S.C. 4321 et seq.; the Council on Environmental Quality's (CEQ) regulations for implementing NEPA, 43 CFR parts 1500 through 1508; and the Department of the Interior's NEPA regulations, 43 CFR part 46.

Background

B.F. Sisk Dam is an earth-filled gravity embankment dam with a crest height of 382 feet and an overall length of about 3.5 miles, impounding San Luis Reservoir with a capacity of 2,041,000 acre-feet (AF). The dam is located near Santa Nella, California, along Pacheco Pass. Although the dam was constructed and is owned by Reclamation, the California Department of Water Resources (DWR) operates the facilities, and the California Department of Parks and Recreation manages the recreational resources associated with San Luis Reservoir. San Luis Reservoir is an off-stream reservoir within Reclamation's Central Valley Project (CVP) and DWR's State Water Project.

Reclamation's Safety of Dams Office completed a risk analysis of B.F. Sisk Dam that evaluated dam stability in the event of seismic activity that proposed a structural solution, which included a crest raise. Reclamation and DWR prepared an environmental impact statement (EIS)/environmental impact report (EIR) analyzing the effects from a No Action Alternative, Operational Alternative, and Crest Raise Alternative, and noticed the availability of the Final EIS/EIR to the public via the Federal Register on August 23, 2019 (84 FR 44295). In December 2019, Reclamation signed a Record of Decision providing the rationale for choosing the Crest Raise Alternative (https://www.usbr.gov/mp/nepa/nepa_project_details.php?Project_ID=34281). Reclamation is currently designing the Crest Raise Alternative under the B.F. Sisk Safety of Dams (SOD) Modification Project.

As a connected action to the B.F. Sisk SOD Modification Project, Reclamation and San Luis and Delta Mendota Water Authority (SLDMWA) seek to evaluate an increase in storage capacity of the San Luis Reservoir. The increased storage capacity would be achieved by an additional 10-foot raise of the B.F. Sisk Dam embankment across the entire dam crest above the level proposed for dam safety purposes (Proposed Action). This additional 10 feet of dam embankment could add approximately 120,000 AF of water storage to San Luis Reservoir. SLDMWA, in coordination with Reclamation, is conducting a feasibility study to evaluate the Proposed Action and a potential cost-share in accordance with the Reclamation SOD Act (43 U.S.C. 506 et seq.), as amended by Public Law 114-113, and Section 4007 of the Water Infrastructure Improvements for the Nation (WIIN) Act (Pub. L. 114-322).

The Reclamation SOD Act of November 2, 1978, was amended to include authority for Reclamation to develop additional project benefits in conjunction with a SOD modification. Pursuant to Section 5.B. of the SOD Act, as amended, Reclamation must determine that additional project benefits are necessary and in the interest of the United States prior to developing any additional project benefits, consistent with Reclamation law. Furthermore, it must be determined that the development of additional project benefits will not negatively impact the SOD Modification Project.

As a potential funder for the Proposed Action under the WIIN Act, and in accordance with the amended SOD Act, Reclamation's preliminary purpose and need is to evaluate the feasibility report and determine if SLDMWA's request to increase storage capacity as an additional benefit in conjunction with the current SOD Modification Project is consistent with Reclamation Law, can support a Secretary of the Interior's finding of feasibility, has Federal benefits pursuant to the WIIN Act, and can be accomplished without negatively impacting the SOD Modification Project.

In addition to a feasibility study, Reclamation intends to complete a SEIS pursuant to NEPA to consider potential environmental effects from implementing the Proposed Action. This environmental document is supplemental to the Final EIS/EIR previously developed for the SOD Modification Project entitled B.F. Sisk Dam Safety of Dams Modification Project (84 FR 44295). Reclamation will focus the SEIS on analyzing effects to resources where a potentially significant impact exists. The resources intended to be discussed include: Water quality, surface water supply, geology and soils, air quality, greenhouse gas emissions, visual resources, noise, traffic and transportation, hazards and hazardous materials, terrestrial resources, recreation, and cultural resources including tribal cultural resources. Agencies and the public are encouraged to provide input regarding potentially significant issues to be addressed in the SEIS, or to identify potential alternatives that would meet the purpose of the Proposed Action.

Public Disclosure

Before including your address, phone number, email address, or other personal identifying information in your comment, you should be aware that your entire comment—including your personal identifying information—may be made publicly available at any time. While you may ask us in your comment to withhold your personal identifying information from public review, we cannot guarantee that we will be able to do so.

Richard Welsh,
Principal Deputy Regional Director, Bureau of Reclamation, Interior Region 10—California-Great Basin.

[FR Doc. 2020-10296 Filed 5-13-20; 8:45 am]

BILLING CODE 4332-90-P